COMMITTEE FOR PURCHASE FROM PEOPLE WHO ARE BLIND OR SEVERELY DISABLED

Quarterly Public Meeting

AGENCY: Committee for Purchase From People Who Are Blind or Severely Disabled.

ACTION: Notice of public meeting.

SUMMARY: The Committee is announcing a virtual public meeting to be held July 21, 2022.

DATES: Register no later than: July 19, 2022.

ADDRESSES: 1401 S Clark Street, Suite 715, Arlington, Virginia 22202.

FOR FURTHER INFORMATION CONTACT: For further information or to submit comments contact: Angela Phifer, telephone: (703) 798-5873 or email CMTEFedReg@AbilityOne.gov.

SUPPLEMENTARY INFORMATION: This notice is published pursuant to 41 U.S.C. 8503(a)(2) and 41 CFR 51-2.3. Its purpose is to provide interested persons an opportunity to register to attend a public meeting.

Summary: This notice provides information to access and participate in the July 21, 2022, regular quarterly public meeting of the Committee for Purchase From People Who Are Blind or Severely Disabled, operating as the U.S. AbilityOne Commission (Commission), via Zoom webinar. The Commission oversees the AbilityOne Program, which provides employment opportunities through Federal contracts for people who are blind or have significant disabilities in the manufacture and delivery of products and services to the Federal Government. The Javits-Wagner-O'Day Act (41 U.S.C. Chapter 85) authorizes the contracts and established 15 Presidential appointees, including private citizens conversant with the employment interests and concerns of people who are blind or significantly disabled. Presidential appointees also include representatives of Federal agencies. The public meetings include updates from the Commission and staff.

Date and Time: July 21, 2022, from 1:00 p.m. to 4:00 p.m., ET.

Place: This meeting will occur via Zoom webinar.

Commission Statement: The Commission invites public comments or suggestions regarding the types of technical assistance that may be provided to AbilityOne-participating nonprofit agencies during future compliance inspections or regulatory assistance visits. The technical assistance is intended to enhance overall compliance and oversight, and/or to support contract performance quality, and/or to enhance the quality of employment in the AbilityOne Program.

Registration: Attendees not requesting speaking time must register not later than 11:59 p.m. EDT on Tuesday, July 19, 2022. Attendees requesting speaking time should register not later than 11:59 p.m. EDT on July 8, 2022, and use the comment fields in the registration form to specify the intended speaking topic/s. The registration link will be posted on the Commission's home page, www.abilityone.gov, not later than Tuesday, June 21, 2022. During registration, you may choose to submit comments, or you may request speaking time at the meeting. The Commission may invite some attendees who submit advance comments to speak to their comments during the meeting. Comments submitted via the registration link will be reviewed with the Commission members prior to the meeting. Comments posted in the chat box during the meeting will be shared with the Commission members after the meeting.

Personal Information: Do not include any information that you do not want publicly disclosed.

For Further Information Contact: Angela Phifer, (703) 798-5873.

The Commission is not subject to the requirements of 5 U.S.C. 552(b); however, the Commission published this notice to encourage the broadest possible participation in its July 21, 2022, public meeting.

Michael R. Jurkowski,
Acting Director, Business Operations.

[FR Doc. 2022-13085 Filed 6-16-22; 8:45 am]

BILLING CODE 6353-01-P